INTERNATIONAL TRADE COMMISSION

[Investigation No. 337-TA-637]

In the Matter of Certain Hair Irons and Packaging Thereof; Notice of Commission Decision Not To Review an Initial Determination; Schedule for Submissions: Extension of Target Date

AGENCY: U.S. International Trade Commission.

ACTION: Notice.

SUMMARY: Notice is hereby given that the U.S. International Trade Commission has determined not to review a final initial determination (“ID”) (Order No. 14) issued by the presiding administrative law judge (“ALJ”) finding a violation of Section 337. The Commission has extended the target date for completion of this investigation by 17 days, i.e., until June 29, 2009.

FOR FURTHER INFORMATION CONTACT: Jean H. Jackson, Esq., Office of the General Counsel, U.S. International Trade Commission, 500 E Street, SW., Washington, DC 20436, telephone 202-205-3104. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On March 14, 2008, the Commission instituted this investigation, based on a complaint filed by Farouk Systems, Inc. (“FSI”) of Houston, Texas. The respondents named in the notice of investigation were: CHI Systems Singapore Pte. Ltd. of Singapore (“CHI Systems”); Princess Silk, LLC (“Princess Silk”) of Lake Forest, California; Kamashi International of Hong Kong, China (“Kamashi”); Mount Rise Ltd. (“Mount Rise”) of Dongguan, China; and Dongguan Fumeikang Electrical Technology Co., Ltd. (“Dongguan Fumeikang”) of Dongguan, China. The complaint further alleges that an industry in the United States exists as required by subsection (a)(2) of section 337. On May 21, 2008, Dongguan Fumeikang was terminated from this investigation on the basis of a consent order. See Order No. 8. The Commission determined not to review Order No. 8 on June 13, 2008. On December 4, 2008, Princess Silk was terminated from this investigation on the basis of a consent order. See Order No. 11. The Commission determined not to review Order No. 11 on December 23, 2008.

On November 10, 2008, FSI filed a motion requesting an order directing the remaining respondents, Mount Rise, Kamashi, and CHI Systems, to show cause why they should not be found in default for failure to respond to the complaint and Notice of Investigation. On December 5, 2008, the ALJ issued Order No. 12, which ordered Mount Rise, Kamashi and CHI Systems to show cause why they should not be found in default. No responses to Order No. 12 were filed. On January 30, 2009, the ALJ issued Order No. 13, an ID granting FSI's motion to find Mount Rise, Kamashi, and CHI Systems in default for failure to respond to Order No. 12. No petitions for review were filed. The Commission determined not to review Order No. 13.

FSI also filed a motion for summary determination of violation by Mount Rise, Kamashi, and CHI Systems on November 10, 2008. These entities were the last remaining respondents, the investigation having been terminated based on consent orders with respect to all other respondents. Pursuant to Commission Rule 210.16(c)(2), 19 CFR 216(c)(2), FSI declared that it would seek a general exclusion order when it filed its motion for summary determination of violation.

On March 10, 2009, the ALJ issued the subject ID, Order No. 14, granting FSI's motion for summary determination of violation. He also issued his recommendations on remedy and bonding. No petitions for review were filed. The Commission has determined not to review Order No. 14. The Commission has also determined to extend the target date for completion of the investigation by 17 days, i.e., until June 29, 2009.

In connection with the final disposition of this investigation, the Commission may (1) issue an order that could result in the exclusion of the subject articles from entry into the United States, and/or (2) issue one or more cease and desist orders that could result in the respondent being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see In the Matter of Certain Devices for Connecting Computers via Telephone Lines, Inv. No. 337-TA-360, USITC Pub. No. 2843 (December 1994) (Commission Opinion).

If the Commission contemplates some form of remedy, it must consider the effects of that remedy upon the public interest. The factors the Commission will consider include the effect that an exclusion order and/or cease and desist orders would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve or disapprove the Commission's action. See Presidential Memorandum of July 21, 2005. 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding. Complainants and the Commission investigative attorney are also requested to submit proposed remedial orders for the Commission's consideration. Complainants are also requested to state the HTSUS numbers under which the accused products are imported.

Written submissions must be filed no later than close of business on May 8, 2009. Reply submissions must be filed no later than the close of business on May 15, 2009. Such submissions should address the ALJ's recommended determinations on remedy and bonding which were made in Order No. 14 (March 10, 2009). No further submissions on any of these issues will be permitted unless otherwise ordered by the Commission.

Persons filing written submissions must file the original document and 12 true copies thereof on or before the deadlines stated above with the Office of the Secretary. Any person desiring to submit a document to the Commission in confidence must request confidential treatment unless the information has already been granted such treatment during the proceedings. All such requests should be directed to the Secretary of the Commission and must include a full statement of the reasons why the Commission should grant such treatment. See 19 CFR 210.6. Documents for which confidential treatment by the Commission is sought will be treated accordingly. All nonconfidential written submissions will be available for public inspection at the Office of the Secretary.

The authority for the Commission's determination is contained in section 337 of the Tariff Act of 1930, as amended (19 U.S.C. 1337), and in section 210.16 and 210.42-46 of the Commission's Rules of Practice and Procedure (19 CFR 210.16; 210.42-46).

By order of the Commission.
Issued: April 21, 2009.
Marilyn R. Abbott,
Secretary to the Commission.
William R. Bishop,
Acting Secretary to the Commission.

[FR Doc. E9-9625 Filed 4-27-09; 8:45 am]

BILLING CODE P